DEPARTMENT OF COMMERCE

National Oceanic and Atmospheric Administration

Agency Information Collection Activities; Submission to the Office of Management and Budget (OMB) for Review and Approval; Comment Request; Survey to Collect Economic Data from Recreational Anglers along the Atlantic Coast

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on March 21, 2022 during a 60-day comment period. This notice allows for an additional 30 days for public comments.

Agency: National Oceanic and Atmospheric Administration, Commerce.

Title: Survey to Collect Economic Data from Recreational Anglers along the Atlantic Coast.

OMB Control Number: 0648-0783.

Form Number(s): None.

Type of Request: Regular submission [extension and revision of a current information collection].

Number of Respondents: 957.

Average Hours per Response: 8 minutes to complete NARFS III and 12 minutes to complete NARFS IV.

Total Annual Burden Hours: 157 hours.

Needs and Uses: This request is for a revision and extension to a currently approved information collection. The first data collection effort in 2019 under OMB Control Number 0648-0783 was to assess how changes in saltwater recreational fishing regulations affect angler effort, angler welfare, fishing mortality, and future stock levels. That data collection effort focused on anglers who fished for Atlantic cod and haddock off the Atlantic coast from Maine to Massachusetts (North Atlantic Recreational Fishing Survey I). In 2020, the collection was revised to remove the cod and haddock survey and add a survey focused on anglers who fish for summer flounder, black sea bass, and scup along the Atlantic coast from Massachusetts to North Carolina (North Atlantic Recreational Fishing Survey II). In 2022, the collection was revised again to re-add the original cod and haddock survey back to this control number (North Atlantic Recreational Fishing Survey III). This revision will re-add the survey focused on summer flounder, black sea bass, and scup (North Atlantic Recreational Fishing Survey IV) that was inadvertently removed in the last revision.

The objective of these surveys will remain exactly the same as the previous surveys conducted under this control number. That is, to statistically assess how anglers respond to changes in management options and fishing regulations (e.g., bag limits, size limits, dates of open seasons, etc.). The survey data will provide the information fisheries managers need to conduct updated analysis of the socio-economic effects to recreational anglers and to coastal communities of proposed changes in fishing regulations. The recreational fishing community and regional fisheries management councils now rely on species-specific socio-economic studies of recreational fishing for analyses of fisheries policies. These surveys will address the stated need for more species-specific studies.

Affected Public: Individuals or households.

Frequency: On Occasion.

Respondent's Obligation: Voluntary.

Legal Authority: 16 U.S.C. 1801 Magnuson-Stevens Fishery Conservation and Management Act.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0648-0783.

Sheleen Dumas,
Department PRA Clearance Officer, Office of the Under Secretary for Economic Affairs, Commerce Department.

[FR Doc. 2024-21604 Filed 9-19-24; 8:45 am]

BILLING CODE 3510-22-P